ENVIRONMENTAL PROTECTION AGENCY

[ER-FRL-8595-7]

Environmental Impact Statements and Regulations; Availability of EPA Comments Availability of EPA Comments Prepared Pursuant to the Environmental Review Process (ERP), Under Section 309 of the Clean Air Act and Section 102(2)(c) of the National Environmental Policy Act as Amended

Requests for copies of EPA comments can be directed to the Office of Federal Activities at 202-564-7146. An explanation of the ratings assigned to draft environmental impact statements (EISs) was published in FR dated July 17, 2009 (74 FR 34754).

Draft EISs

EIS No. 20090011, ERP No. D-SFW-K99041-CA, Tehachapi Uplands Multiple Species Habitat Conservation Plan (TUMSHCP), Propose Issuance of a 50-Year Incidental Take Permit for 27 Federal- and State-Listed and Unlisted Species, Kern County, CA.

Summary: EPA expressed environmental concerns about impacts to aquatic resources and to California condor. EPA recommended additional information for air quality, induced growth, transportation, visual and cumulative impacts. Rating EC2.

EIS No. 20090091, ERP No. D-FRC-D05126-VA, Smith Mountain Pumped Storage Project (FERC No. 2210-169). Application for Hydropower License to continue Operating the 636-megawatt Pumped Storage Project, Roanoke River, Bedford, Campbell, Franklin and Pittsylvania Counties, VA.

Summary: EPA expressed environmental concerns about water temperature changes, the adaptive management process, and wetland impacts, and requested that a fish passage option be explored, and an environmental monitor be used. Rating EC2.

EIS No. 20090126, ERP No. D-FHW-E40825-NC, Monroe Connector/Bypass Project, Construction from Near I-485 at US &4 to US 74 between the Tons of Wingate and Marshville, Funding and US COE 404 Permit, North Carolina Turnpike Authority, Meckleburg and Union Counties, NC.

Summary: EPA expressed environmental objections about air and water quality impacts. EPA believes that this project will contribute additional VMTs and increased emissions and ultimately make achievement of the NAAQS less likely. Jurisdictional waters of the U.S. are currently impaired in the project study area from construction and related activities. Rating EO2.

EIS No. 20090142, ERP No. D-NPS-K61170-CA, Yosemite National Park Project, Construction of Yosemite Institute Environment Education Campus, Implementation, Mariposa County, CA.

Summary: EPA does not object to the proposed project, but requested additional information regarding applicability of Clean Air Act general conformity. Rating LO.

EIS No. 20090144, ERP No. D-GSA-K40271-CA, San Ysidro Land Port of Entry (LPOE) Improvement Project, Propose the Configuration and Expansion of the Existing (LPOE), San Ysidro, CA.

Summary: EPA expressed environmental concerns about air quality impacts and recommended additional operational air quality analysis and measures to reduce congestion and emissions, including anti-idling methods. EPA also recommended environmental justice analysis of port facility users and improvements to intermodal accessibility. Rating EC2.

EIS No. 20090155, ERP No. D-BIA-C65008-NY, Cayuga Indian Nation of New York Conveyance of Land into Trust Project, Approval of a 125 + Acre Fee-To-Trust Property Transfer of Seven Separate Parcel located in the Village of Union Springs and Town of Springport and Montezuma in Cayuga County and the Town of Seneca Falls in Seneca County, NY.

Summary: EPA expressed environmental concerns about the traffic analysis and related air quality impacts. Rating EC2.

EIS No. 20090160, ERP No. D-AFS-F65075-MN, Border Project, Proposing Forest Vegetation Management and Related Transportation System Activities, LaCroix Ranger District, Superior National Forest, St. Louis County, MN.

Summary: EPA does not object to the proposed project. Rating LO.

EIS No. 20090086, ERP No. DA-GSA-D81027-MD, U.S. Food and Drug Administration (FDA) Headquarters Consolidation, Master Plan Update, Federal Research Center at White Oak, Silver Spring, Montgomery County, MD.

Summary: EPA does not object to the proposed action. Rating LO.

EIS No. 20090150, ERP No. DR-FHW-F40445-IN, I-69 Evansville to Indianapolis, Indiana Project, Section 2, Revised to Update the Stream Impacts, Oakland City to Washington, (IN-64 to US 50), Gibson, Pike and Daviess Counties, IN.

Summary: While EPA has no objection to the proposed action, it requested clarification of mitigation measures for wetlands, streams, upland forests, and clean diesel construction practices. Rating LO.

EIS No. 20090166, ERP No. DS-COE-G34030-LA, Calcasieu River and Pass, Louisiana Dredged Material Management Plan, Implementation, Calcasieu Ship Channel, Port of Lake Charles, Calcasieu and Cameron Parishes, LA.

Summary: EPA does not object to the preferred alternative. Rating LO.

Final EISs

EIS No. 20090049, ERP No. F-COE-K36149-CA, San Diego Creek Watershed Special Area Management Plan/Watershed Streambed Alteration Agreement Process (SAMP/WSAA Process), Protecting and Enhancing Aquatic Resource and Permitting Reasonable Economic Development, Orange County, CA.

Summary: EPA's previous issues have been resolved; therefore, EPA does not object with the proposed action.

EIS No. 20090143, ERP No. F-FRC-L03014-OR, Jordan Cove Energy and Pacific Connector Gas Pipeline Project, Construction and Operation, Liquefied Natural Gas (LNG) Import Terminal and Natural Gas Pipeline Facilities, Coos, Douglas, Jackson and Klamath Counties, OR.

Summary: EPA expressed environmental concerns about the capacity of the ocean disposal site selected to receive maintenance dredge materials.

EIS No. 20090174, ERP No. F-FHW-K50015-CA, Schuyler Heim Bridge Replacement and SR-47 Expressway Improvement Project, New Information related to Health Risk Associated with Air Toxics, Funding, U.S. Coast Guard Bridge Permit, U.S. Army COE Section 10 and 404 Permits, Ports of Long Beach and Los Angeles, Los Angeles County, CA.

Summary: EPA continues to have environmental concerns about environmental justice impacts and the inconsistent information on mobile source air toxics.

EIS No. 20090180, ERP No. F-STA-F03012-00, Alberta Clipper Pipeline Project, Application for a Presidential Permit for Construction, Operation and Maintenance of Facilities in ND, MN and WI.

Summary: EPA continues to have environmental concerns about wetland and stream crossing impacts.

EIS No. 20090203, ERP No. F-NOA-E91021-00, Snapper Grouper Amendment 15B, Fishery Management Plan, Updated Information on the Economic Analysis for the Bag Limit Sales Provision, Update Management Reference Point for Golden Tilefish (Lopholatilus chamaeleonticeps); Define Allocations for Snowy Grouper (Epinephelus niveatus) and Red Porgy (Pagrus pagrus), NC, SC, FL and GA.

Summary: EPA does not object to the proposed action.

Dated: July 21, 2009.
Robert W. Hargrove,
Director, NEPA Compliance Division, Office of Federal Activities.

[FR Doc. E9-17706 Filed 7-23-09; 8:45 am]

BILLING CODE 6560-50-P